JUDICIAL CONFERENCE OF THE UNITED STATES

Committee on Rules of Practice and Procedure; Meeting of the Judicial Conference

AGENCY: Judicial Conference of the United States Committee on Rules of Practice and Procedure,

ACTION: Revised Notice of Open Meeting.

SUMMARY: The Committee on Rules of Practice and Procedure will hold a remote meeting on June 23, 2020. The meeting will be open to public via telephonic conference for listening but not participation. An agenda and supporting materials will be posted at least 7 days in advance of the meeting at: http://www.uscourts.gov/rules-policies/records-and-archives-rules-committees/agenda-books. The announcement for this meeting was previously published in 85 FR 14247.

DATES: June 23, 2020.

TIME: 10:00 a.m.-5:00 p.m.

ADDRESSES: N/A.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820, RulesCommittee_Secretary@ao.uscourts.gov.

Authority: 28 U.S.C. 2073.

Dated: May 19, 2020.
Rebecca A. Womeldorf,
Secretary, Committee on Rules of Practice and Procedure, Judicial Conference of the United States.

[FR Doc. 2020-11112 Filed 5-21-20; 8:45 am]

BILLING CODE 2210-55-P